DEPARTMENT OF JUSTICE

Notice of Lodging of Consent Decree Pursuant to the Clean Air Act, Clean Water Act, Resource Conservation and Recovery Act, Comprehensive Environmental Response, Compensation and Liability Act, and the Emergency Planning and Community Right-to-Know Act

In accordance with 28 CFR 50.7, notice is hereby given that on April 1, 2002, a proposed consent decree in United States and the State of Illinois v. The Premcor Refining Group, Inc., Civil Action No. 98-C-5618, was lodged with the United States District Court for the Northern District of Illinois.

In this action, the United states sought civil penalties and injunctive relief for alleged environmental violations at The Premcor Refining Group, Inc.'s refinery in Blue Island, Illinois. The United States' complaint alleges violations of the following five federal statutes (and federal and state laws implementing them): Clean Air Act (“CAA”), 42 U.S.C. 7401 et seq., Clean Water Act (“CWA”), 33 U.S.C. 1311 et seq., the Resource Conservation and Recovery Act (“RCRA”), 42 U.S.C. 6901 et seq.; the Comprehensive Environmental Response, Compensation and Liability Act (“CERCLA”), 42 U.S.C. 9601 et seq.; and the Emergency Planning and Community Right-To-Know Act (“EPCRA”), 42 U.S.C. 11001 et seq. Under the terms of the proposed consent decree, Premcor will pay a civil penalty of $6,250,000 to resolve the claims of the United States and the State of Illinois. The settlement proceeds will be split evenly between the United States and the State.

The Department of Justice will receive comments relating to the proposed consent decree for a period of thirty (30) days from the date of this publication. Comments should be addressed to the Assistant Attorney General, Environment and Natural Resources Division, U.S. Department of Justice, PO Box 7611, Washington, D.C. 20044-7611, and should refer to United States v. The Premcor Refining Group, Inc. (f/k/a Clark Refining and Marketing, Inc.), Civil Action No. 98-C-5618 and Department of Justice Reference No. 90-5-2-1-2214.

The proposed consent decree may be examined at the Office of the United States Attorney, North District of Illinois, 219 South Dearborn Street, Chicago, Illinois 60604, and the Region 5 Office of the Environmental Protection Agency, 77 West Jackson Boulevard, Chicago, Illinois 60604-3590. A copy of the Consent Decree may also be obtained in person or by mail from the Consent Decree Library, 1425 New York Ave., NW. Washington, DC 20005, or by faxing a request to Tonia Fleetwood at (202) 616-6584, phone confirmation number (202) 515-1547. In requesting a copy, please refer to the above-referenced case name, civil action number and Department of Justice reference number, and enclose a check in the amount of $9.50 (25 cents per page reproduction costs), payable to the U.S. Treasury.

William Brighton,
Assistant Section Chief, Environmental Enforcement Section.

[FR Doc. 02-8744 Filed 4-10-02; 8:45 am]

BILLING CODE 4410-15-M